DEPARTMENT OF ENERGY

Federal Energy Regulatory Commission

Notice of Application for Amendment of License and Soliciting Comments, Motions To Intervene, and Protests

November 15, 2005.

Take notice that the following application has been filed with the Commission and is available for public inspection:

a. Application Type: Non-project use of project lands and waters.

b. Project Number: P-1267-073.

c. Date Filed: August 22, 2005.

d. Applicant: Greenwood County, South Carolina.

e. Name of Project: Buzzard's Roost Hydroelectric Project.

f. Location: The project is located on the Saluda River in Greenwood, Laurens, and Newberry Counties, South Carolina. The project does not occupy any federal or tribal lands. The proposed non-project use would be located on Lake Greenwood in Greenwood County at Stoney Point subdivision.

g. Filed Pursuant to: Federal Power Act, 16 U.S.C. § 791(a)-825(r).

h. Applicant Contacts: Larry Smith, 600 Monument Street, P.O. Box P-103, Suite 102, Greenwood, SC 29646; phone: (864) 942-8556.

i. FERC Contact: Any questions on this notice should be addressed to Shana High at (202) 502-8674, or by ­e-mail: shana.high@ferc.gov.

j. Deadline for filing comments and/or motions: December 16, 2005.

k. Description of the Application: Greenwood County requests Commission approval to grant an encroachment permit and use agreement to Stoney Point Property Owners Association (SPPOA) for the expansion of an existing community marina. The marina currently consists of one dock with 18 boat slips, a boat launch ramp with an adjacent courtesy dock, and two jet-ski ramps. The proposed marina expansion includes additional dock works to accommodate 68 new boat slips, and four additional jet-ski ramps. The overall boat-dock footprint would extend up to 250 feet into the normal lake pool over a width of 275 feet. The marina's six personal-watercraft ramps would occupy a 60-foot-long by 30-foot-wide area of the shoreline. The expanded marina facilities would be leased to SPPOA members.

l. Location of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, or for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers (P-1267-073). All documents (original and eight copies) should be filed with: Magalie R. Salas, Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's Web site at http://www.ferc.gov under the ­“e-Filing” link.

Magalie R. Salas,
Secretary.

[FR Doc. E5-6428 Filed 11-21-05; 8:45 am]

BILLING CODE 6717-01-P